DEPARTMENT OF ENERGY

Federal Energy Regulatory Commission

[Project No.175-029]

Pacific Gas and Electric Company; Notice of Intent To File License Application, Filing of Pre-Application Document, Approving Use of the Traditional Licensing Process

a. Type of Filing: Notice of Intent to File License Application and Request to Use the Traditional Licensing Process.

b. Project No.: P-175-029.

c. Date Filed: April 19, 2021.

d. Submitted by: Pacific Gas and Electric Company (PG&E).

e. Name of Project: Balch Hydroelectric Project.

Location: On the North Fork King River, in Fresno County, California. The project occupies 506.28 of federal land administered by the United States Department of Agriculture, Forest Service.

f. Filed Pursuant to: 18 CFR 5.3 and 5.5 of the Commission's regulations.

g. Potential Applicant Contact(s): Mareen Zawalick, 77 Beale St., San Francisco, CA 94105; (805) 545-4242; email at maureen.zawalick@pge.com; or Jennifer Post, Esq., 77 Beale St., San Francisco, CA 94105; (415) 973-9809; email at jennifer.post@pge.com.

h. FERC Contact: Benjamin Mann at (202) 502-8127; or email at benjamin.mann@ferc.gov.

i. PG&E filed its request to use Traditional Licensing Process on April 19, 2021. PG&E provided public notice of its request on simultaneously. In a letter dated June 2, 2021 the Director of the Division of Hydropower Licensing approved PG&E's request to use the Traditional Licensing Process.

j. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the California State Historic Preservation Officer, as required by section 106, National Historic Preservation Act, and the implementing regulations of the Advisory Council on Historic Preservation at 36 CFR 800.2.

k. With this notice, we are designating PG&E as the Commission's non-federal representative for carrying out informal consultation pursuant to section 7 of the Endangered Species Act and section 305(b) of the Magnuson-Stevens Fishery Conservation and Management Act; and consultation pursuant to section 106 of the National Historic Preservation Act.

l. PG&E filed a Pre-Application Document (PAD; including a proposed process plan and schedule) with the Commission, pursuant to 18 CFR 5.6 of the Commission's regulations.

m. A copy of the PAD may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued on March 13, 2020. For assistance, contact FERC Online Support at FERCOnlineSupport@ferc.gov, (866) 208-3676 (toll free), or (202) 502-8659 (TTY).

n. The licensee states its unequivocal intent to submit an application for a new license for Project No. P-175-029. Pursuant to 18 CFR 16.8, 16.9, and 16.10 each application for a new license and any competing license applications must be filed with the Commission at least 24 months prior to the expiration of the existing license. All applications for license for this project must be filed by April 30, 2024.

o. Register online at https://ferconline.ferc.gov/FERCOnline.aspx to be notified via email of new filing and issuances related to this or other pending projects. For assistance, contact FERC Online Support.

Dated: June 2, 2021.
Kimberly D. Bose,
Secretary.

[FR Doc. 2021-11951 Filed 6-7-21; 8:45 am]

BILLING CODE 6717-01-P